FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 8, 2010.

A. Federal Reserve Bank of Cleveland (Nadine Wallman, Vice President) 1455 East Sixth Street, Cleveland, Ohio 44101-2566:

1. Harris Rakestraw, III, Somerset, Kentucky, individually; and The Rogers Family Immediate Family Control Group, consisting of Harold D. Rogers, individually, and as Trustee of the Harold D. Rogers Revocable Trust, Anthony M. Rogers, and John M. Rogers, all of Somerset, Kentucky, and Margaret Allison Rogers, Versailles, Kentucky; to acquire voting shares of Citizens Bancshares, Inc., and thereby indirectly acquire voting shares of Citizens National Bank of Somerset, both of Somerset, Kentucky.

2. Timothy Robert Aiken, Trustee of Hometown Bancshares, Inc. 401(k) Profit Sharing Plan, Middlebourne, West Virginia; to retain voting shares of Hometown Bancshares, Inc., and thereby indirectly retain voting shares of Union Bank, both of Middlebourne, West Virginia.

B. Federal Reserve Bank of Kansas City (Dennis Denney, Assistant Vice President) 1 Memorial Drive, Kansas City, Missouri 64198-0001:

1. Donna M. Curry, Trustee of the The Galen L. Curry Marital Trust, and as Voting Trustee of the Voting Trust Agreement, both of Piqua, Kansas; to retain control of My Anns Corporation, and thereby indirectly retain control of Piqua State Bank, both in Piqua, Kansas.

C. Federal Reserve Bank of San Francisco (Kenneth Binning, Vice President, Applications and Enforcement) 101 Market Street, San Francisco, California 94105-1579:

1. Charles W. Reinking, Santa Rosa, California; to become co-Trustee of the Frank P. Doyle Trust, Article IX, and thereby retain voting shares of Exchange Bank, both of Santa Rosa, California.

Board of Governors of the Federal Reserve System, February 16, 2010.
Robert deV. Frierson,
Deputy Secretary of the Board.

[FR Doc. 2010-3279 Filed 2-19-10; 8:45 am]

BILLING CODE 6210-01-S